DEPARTMENT OF ENERGY

Federal Energy Regulatory Commission

[Docket No. AD22-9-000]

Notice of New England Winter Gas-Electric Forum

Take notice that the Federal Energy Regulatory Commission (Commission) will convene a forum on Thursday, September 8, 2022, from approximately 8:00 a.m. to 5:00 p.m. Eastern Time. The forum will be held in Burlington, Vermont and will be open to the public.

The purpose of this forum is to discuss the electricity and natural gas challenges facing the New England Region. The objective of the forum is to achieve greater understanding among stakeholders in defining the electric and natural gas system challenges in the New England Region.

Registration for in-person attendance will be required and there is no fee for attendance. The forum will also be available on webcast. A supplemental notice will be issued with further details regarding the forum agenda, as well as any updates in timing and logistics, including registration for members of the public and the nomination process for panelists. Information will also be posted on the Calendar of Events on the Commission's website, www.ferc.gov, prior to the event. The forum will be transcribed.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this forum, please contact NewEnglandForum@ferc.gov for technical or logistical questions.

Dated: May 19, 2022.
Debbie-Anne A. Reese,
Deputy Secretary.

[FR Doc. 2022-11241 Filed 5-24-22; 8:45 am]

BILLING CODE 6717-01-P